DEPARTMENT OF HOUSING AND URBAN DEVELOPMENT

[Docket No. FR-5262-FA-01]

Announcement of Funding Awards for the Emergency Capital Repair Grant Program Fiscal Year 2009

AGENCY: Office of the Assistant Secretary for Housing—Federal Housing Commissioner, HUD.

ACTION: Notice of funding awards.

SUMMARY: In accordance with section 102(a)(4)(C) of the Department of Housing and Urban Development Reform Act of 1989, this announcement notifies the public of Emergency Capital Repair Grant funding decisions made by the Department in FY 2009. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Emergency Capital Repair Grants Program is authorized by Section 202(b) of the Housing Act of 1959 (12 U.S.C. 1701q-2). Section 202b was amended to provide grants for “substantial capital repairs to eligible multifamily projects with elderly tenants that are needed to rehabilitate, modernize, or retrofit aging structures, common areas or individual dwelling units.” HUD accepted applications on a first-come, first-serve basis and awarded emergency capital repair grants until available amounts were expended.

The Catalog of Federal Domestic Assistance number for this program is 14.315.

The Emergency Capital Repair Grant is designed to provide funds to make emergency capital repairs to eligible multifamily projects owned by private nonprofit entities designated for occupancy by elderly tenants. The capital repair needs must relate to items that present an immediate threat to the health, safety, and quality of life of the tenants. The intent of these grants is to provide one-time assistance for emergency items that could not be absorbed within the project's operating budget and other project resources.

A total of $8,763,592 was awarded to 36 projects and 3,340 units. In accordance with section 102(a)(4)(C) of the Department of Housing and Urban Development Reform Act of 1989 (103 Stat. 1987. 42 U.S.C. 3545), the Department is publishing the grantees and amounts of the awards in Appendix A of this document.

Dated: June 8, 2009.
Brian D. Montgomery,
Assistant Secretary for Housing—Federal Housing Commissioner, H.

Appendix A

Emergency Capital Repair Grant Awardees FY 2009
Name of owner/sponsor | Name of development | City | State | Number of units | Dollar amount awarded | Repairs funded
Four Freedoms House, Seattle, Inc | Four Freedoms House, Seattle | Seattle | WA | 302 | $500,000 | Replaced galvanized plumbing system and hot water storage tanks.
Sioux Falls Environmental Access, Inc | Rosewood Heights | Rock Rapids | IA | 56 | 465,554 | Replaced heating and cooling systems and windows.
Kidron, Inc | Kidron Bethel Village | North Newton | KS | 55 | 389,822 | Replaced roof, furnace, air conditioning, windows and patio doors.
B'nai B'rith Covenant House, Inc | Covenant House | St. Louis | MO | 183 | 108,475 | Replaced obsolete roof air conditioners and boilers.
Sycamore Terrace Corp | Sycamore Terrace | Upland | CA | 100 | 85,682 | Replaced elevators.
Seton Housing, Inc | Seton Housing-Zanesville | Zanesville | OH | 45 | 52,150 | Replaced roof and emergency call systems.
Flint Heights Senior Citizen Apartments Association | Flint Heights Senior Citizens Apartments | Flint | MI | 163 | 273,601 | Replaced PTAC units, water heaters, and holding tank.
Emerson Center, Inc | Emerson Center Apartments | Lexington | KY | 178 | 135,245 | Replaced roof membrane and flashing along parapet walls.
Shepherd Place, Inc | Shepherd Place Apartments | Carlisle | KY | 20 | 19,950 | Replaced roof and deteriorated drive.
Riverview Apartments, Inc | Riverview Towers I | Pittsburgh | PA | 84 | 198,660 | Replaced elevators.
Riverview Apartments, Inc | Riverview Towers II | Pittsburgh | PA | 137 | 306,819 | Replaced elevators.
Sioux Falls Environmental Access, Inc | Lakeland Park Apartments | Clear Lake | IA | 56 | 465,554 | Replaced heating and cooling systems and windows.
Christ Church Apartments, Inc | Christ Church Apartments | Lexington | KY | 168 | 373,240 | Replaced 217 HVAC units.
Sioux Falls Environmental Access, Inc | Kingston Apartments | Kingsley | IA | 24 | 246,986 | Replaced heating and cooling systems and windows.
Sioux Falls Environmental Access, Inc | Woodland Apartments | Woodbine | IA | 48 | 487,399 | Replaced heating and cooling systems and windows.
Horace Bushnell Congregate Homes, Inc | Horace Bushnell Congregate Homes | Hartford | CT | 60 | 430,885 | Replaced the existing boiler system.
Sioux Falls Environmental Access, Inc | Ridgewood Apartments | Akron | IA | 36 | 347,486 | Replaced heating and cooling systems and windows.
Sioux Falls Environmental Access, Inc | Somerset | Holstein | IA | 24 | 246,986 | Replaced heating and cooling systems and windows.
East Salem Homes, Inc | University Place Apartments | Winston-Salem | NC | 97 | 340,421 | Repaired and replaced exterior brick masonry.
Methouse, Inc | Methouse | Munhall | PA | 113 | 79,271 | Replaced hydraulic cylinder for elevator.
Bugbee Housing Development Fund Co., Inc | Bugbee Apartments | Watertown | NY | 35 | 405,000 | Replaced elevator.
Four Freedoms House of Miami Beach, Inc | Four Freedoms House of Miami Beach | Miami Beach | FL | 210 | 120,282 | Replaced galvanized water pipes.
Shalom Housing Inc | Shalom Apartments | Warwick | RI | 101 | 41,500 | Replaced leaking roof.
Vale Park Psychiatric Services, Inc | North Vale Apartments | Valparaiso | IN | 15 | 144,894 | Replaced roof, furnace, and water heaters.
Golden Manor, Inc | Golden Manor I | Torrington | WY | 26 | 143,328 | Replaced tubs, ranges and bathroom sinks.
Stockton YMI Elderly Housing | Casa Manana Inn | Stockton | CA | 163 | 143,656 | Replaced elevator and back-up generator.
Christopher Homes of Strong, Inc | Christopher Homes of Strong | Strong | AR | 20 | 32,511 | Replaced roof, windows and HVAC.
Christopher Homes of North Little Rock, Inc | Christopher Homes of North Little Rock | North Little Rock | AR | 56 | 344,660 | Replaced roof, windows and HVAC and sidewalks.
Christopher Homes of Hot Springs, Inc | Christopher Homes of Hot Springs | Hot Springs | AR | 21 | 66,607 | Replaced roof, windows and HVAC.
Chapel House of Louisville, Inc | Chapel House of Louisville | Louisville | KY | 225 | 457,426 | Relined existing sewer lines.
North Penn Comprehensive Health Services | Sullivan Terrace | Dushore | PA | 78 | 381,000 | Replaced elevator.
Mary Grove Non-profit Housing Corp | Mary Grove Apartments AKA McGivney Bethune | Detroit | MI | 80 | 88,199 | Replace roof, gutters and downspouts.
West Virginia Homes Inc | Brooks Manor | Charleston | WV | 57 | 322,000 | Replaced heat pumps, elevator, front door, roof and windows.
Community Housing Concepts Sheraton Towers, LP | Sheraton Towers | Highpoint | NC | 97 | 300,000 | Replaced two elevators.
Harriet Tubman Terrace, Inc | Harriet Tubman Terrace | Pittsburgh | PA | 56 | 125,917 | Replaced roof, boiler, and trash compactor.
Madison Heights Non-Profit Housing Corp | Madison Heights Cooperative Apts | Madison Heights | MI | 151 | 92,426 | Replaced roof.

[FR Doc. E9-14119 Filed 6-15-09; 8:45 am]

BILLING CODE 4210-67-P